DEPARTMENT OF ENERGY

Federal Energy Regulatory Commission

[Docket No. ER99-705-001, et al.]

Golden Spread Electric Cooperative, Inc., et al.; Electric Rate and Corporate Regulation Filings

February 7, 2002.

Take notice that the following filings have been made with the Commission. Any comments should be submitted in accordance with Standard Paragraph E at the end of this notice.

1. Golden Spread Electric Cooperative, Inc.

[Docket No. ER99-705-001]

Take notice that on January 31, 2002 Golden Spread Electric Cooperative, Inc. (Golden Spread) tendered for filing with the Federal Energy Regulatory Commission (Commission) its triennial updated market analysis (Triennial Analysis) in accordance with the Commission's January 14, 1999 Order in Docket No. ER99-705-000, which authorized Golden Spread to sell power at market-based rates. Golden Spread also has filed a motion for leave to file its Triennial Analysis out-of-time.

Comment Date: February 21, 2002.

2. Puget Sound Energy, Inc.

[Docket No. ER99-845-003]

Take notice that on January 29, 2002, Puget Sound Energy, Inc. (Puget) filed with the Federal Energy Regulatory Commission its three-year updated market analysis. Puget is an investor-owned public utility established and organized under the laws of the State of Washington, with its principal offices located in Bellevue, Washington. Puget engages in, among other things, generating, transmitting, and marketing electric power.

Comment Date: February 19, 2002.

3. American Electric Power Service Corporation

[Docket No. ER01-2215-001]

Take notice that on February 1, 2002, the American Electric Power Service Corporation (AEPSC) tendered for filing an executed amended Interconnection and Operation Agreement between Indiana Michigan Power Company and Duke Energy Vigo, LLC. The agreement is pursuant to the AEP Companies' Open Access Transmission Service Tariff (OATT) that has been designated as the Operating Companies of the American Electric Power System FERC Electric Tariff Second Revised Volume No. 6, effective June 15, 2000.

AEP requests an effective date of August 2, 2001. A copy of the filing was served upon the Indiana Utility Regulatory Commission and the Michigan Public Service Commission.

Comment Date: February 22, 2002.

4. GWF, LLC

[Docket Nos. ER02-42-002]

Take notice that on January 29, 2002, GWF Energy LLC filed a refund report in compliance with the Commission's Order published at 97 FERC ¶ 61,297 (December 19, 2001) related to revenues collected prior to the Effective Date of the long-term power sales agreement between GWF Energy LLC and the California Department of Water Resources.

Comment Date: February 19, 2002.

5. Split Rock Energy LLC

[Docket No. ER02-349-001]

Take notice that on January 31, 2002, Split Rock Energy LLC submitted revised Pricing Methodology—Energy Transfer Pricing and Capacity Cost-Sharing Principles for Split Rock Energy LLC.

Comment Date: February 21, 2002.

6. Southwestern Electric Power Company

[Docket No. ER02-381-001]

Take notice that on January 31, 2002 Southwestern Electric Power Company (SWEPCO) submitted for filing in compliance with the requirements of the Commission's January 16, 2002 “Order Accepting, as Modified, Restated Agreement” in Docket No. ER02-381-000 revisions to the Restated and Amended Power Supply Agreement between SWEPCO and Northeast Texas Electric Cooperatives, Inc.

SWEPCO states that a copy of this filing has been served on each person designated on the official service list in Docket No. ER02-381-000 and the Public Utility Commission of Texas.

Comment Date: February 21, 2002.

7. Midwest Independent Transmission System Operator, Inc.

[Docket No. ER02-484-001]

Take notice that on January 31, 2002, the Midwest Independent Transmission System Operator, Inc., (Midwest ISO) and the Midwest ISO Transmission Owners jointly submitted for filing a substitute page of the Midwest ISO Agreement regarding the implementation of the revenue distribution for revenues from the Regional Through and Out Rate surcharge. The substitute page states the percentages for revenue distribution without rounding to the next full percentage point.

The Midwest ISO seeks waiver of the Commission's regulations, 18 CFR 385.2010 (2001), with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filings has been electronically posted on the Midwest ISO's website at www.midwestiso.org under the heading “Filings to FERC” for other interested parties in this matter. The Midwest ISO will provide hard copies to any interested parties upon request.

Comment Date: February 21, 2002.

8. The Dayton Power and Light Company

[Docket No. ER02-504-001]

Take notice that on February 4, 2002, The Dayton Power and Light Company (Dayton) submitted to the Federal Energy Regulatory Commission (Commission) service agreements establishing The Dayton Power & Light Company (Energy Services) as customers under the terms of Dayton's Open Access Transmission Tariff.

Dayton requests an effective date of one day subsequent to this filing for the service agreements. Accordingly, Dayton requests waiver of the Commission's notice requirements. Copies of this filing were served upon Energy Services and the Public Utilities Commission of Ohio.

Comment Date: February 25, 2002.

9. California Independent System Operator Corporation

[Docket No. ER02-599-001]

Take notice that on January 30, 2002, the California Independent System Operator Corporation (ISO), submitted a revised informational filing as to its transmission Access Charge rates. The ISO states that the revised filing was necessary because Pacific Gas and Electric Company and San Diego Gas and Electric Company submitted revised data to the Commission which affects the Access Charge formula rates. The ISO has requested that the revised rates be effective as of January 1, 2002.

The ISO states that this filing has been served the Public Utilities Commission of California, the California Energy Commission, the California Electricity Oversight Board, and all parties with effective Scheduling Coordinator Agreements under the ISO Tariff, as well as the parties listed on the Commission's service list.

Comment Date: February 20, 2002.

10. Consolidated Edison Company of New York, Inc.

[Docket No. ER02-729-001]

Take notice that on January 29, 2002, Consolidated Edison Company of New York, Inc. (Con Edison) tendered for filing an amendment to its filing of a Supplement to its Rate Schedule FERC 117, an agreement to provide interconnection and transmission service to the Long Island Power Authority (LIPA).

Con Edison states that a copy of this filing has been served by mail upon LIPA.

Comment Date: February 19, 2002.

11. Wolverine Power Supply Cooperative, Inc.

[Docket No. ER02-791-001]

Take notice that on January 29, 2002, Wolverine Power Supply Cooperative, Inc., amended its January 17, 2002 filing of four Amended and Consolidated Wholesale Power Contracts (Contract) between Wolverine Power Supply Cooperative, Inc. (Wolverine) and Cherryland Electric Cooperative (Cherryland), HomeWorks Tri-County Electric Cooperative (HomeWorks), Great Lakes Energy Cooperative (Great Lakes), Presque Isle Electric and Gas Co-op, Inc. (Presque Isle) by submitting attachments that were inadvertently excluded from the initial Contract filing. Wolverine requests an effective date of March 15, 2002 for these Contracts.

Wolverine states that a copy of this filing has been served upon its member cooperatives: Cherryland Electric Cooperative, Great Lakes Energy, Presque Isle Electric & Gas Cooperative, HomeWorks Tri-County Electric Cooperative, Wolverine Power Marketing Cooperative, and the Michigan Public Service Commission.

Comment Date: February 19, 2002.

12. Entergy Services, Inc.

[Docket No. ER02-819-001]

Take notice that on January 31, 2002, Entergy Services, Inc. (Entergy Services), on behalf of Entergy Arkansas, Inc (Entergy Arkansas), tendered for filing a substitute page to the First Revised Long-Term Market Rate Sales Agreement between Entergy Arkansas and City of Benton, Arkansas for the sale of power under Entergy Services' Rate Schedule SP.

Comment Date: February 21, 2002.

13. Otter Tail Power Company

[Docket No. ER02-912-000]

Take notice that on January 31, 2002 and as amended on February 4, 2002, Otter Tail Power Company submitted corrections to its proposal to implement a Control Area Services and Operations Tariff and terminate its Open Access Transmission Tariff in order to accommodate the start-up of Midwest Independent Transmission System Operator, Inc. The corrections concern the table of contents to the Control Area Services and Operations Tariff, Attachments D-1 through D-4 of the Control Area Services and Operations Tariff, the service list, and the revised tariff sheets regarding the termination of the Open Access Transmission Tariff.

Comment Date: February 25, 2002.

14. California Independent System Operator Corporation

[Docket No. ER02-922-000]

Take notice that on January 31, 2002, the California Independent System Operator Corporation (ISO) submitted for filing Amendment No. 42 to the ISO Tariff and on February 1, 2002 submitted an errata concerning Amendment No. 42. Amendment No. 42 would modify the Tariff to provide for the following: new provisions to facilitate participation in the ISO markets by eligible intermittent resources (e.g., wind); changes in the allocation for settlement Charge Type 487; Changes in the management of Intra-zonal Congestion; and Changes in the calculation of the Target Price for incremental and decremental Imbalance Energy bids. The ISO requests that each of these modifications be made effective April 1, 2002.

The ISO has served copies of this filing upon the Public Utilities Commission of the State of California, the California Energy Commission, the California Electricity Oversight Board, and on all parties with effective Scheduling Coordinator Service Agreements under the ISO Tariff. In addition, the ISO is posting this filing on the ISO's Home Page.

Comment Date: February 21, 2002.

15. Western Massachusetts Electric Company

[Docket No. ER02-959-000]

Take notice that on February 4, 2002, Northeast Utilities Service Company (NUSCO), on behalf of its affiliate, Western Massachusetts Electric Company (WMECO), filed with the Federal Energy Regulatory Commission (Commission) an executed Supplement No. 1 to Interconnection and Operation Agreement (Supplement) dated December 10, 2001, between WMECO and Consolidated Edison Energy, Inc. (CEE) that establishes the terms and conditions under which certain modifications will be made to the existing interconnection facilities between WMECO transmission and distribution system and CEEI's West Springfield Station, located in West Springfield, Massachusetts. The Supplement relates to WMECO's Rate Schedule FERC No. 432.

NUSCO states that a copy of this filing has been mailed to CEEI, and that CEEI consents to and supports its filing. NUSCO and CEEI request expedited acceptance of the Supplement, and further request that the Supplement be permitted to become effective on December 10, 2001, or as soon thereafter as the Commission permits.

Comment Date: February 25, 2002.

16. Progress Energy on Behalf of Carolina Power & Light Company

[Docket No. ER02-960-000]

Take notice that on February 4, 2002, Carolina Power & Light Company (CP&L) tendered for filing a Service Agreement for Firm Point-to-Point Transmission Service with Central Power & Lime, Inc. Service to this Eligible Customer will be in accordance with the terms and conditions of the Open Access Transmission Tariff filed on behalf of CP&L.

CP&L is requesting an effective date of February 1, 2002 for this Service Agreement. A copy of the filing was served upon the North Carolina Utilities Commission, the South Carolina Public Service Commission and the Florida Public Service Commission.

Comment Date: February 25, 2002.

17. California Independent System Operator Corporation

[Docket No. ER02-961-000]

Take notice that on February 4, 2002, the California Independent System Operator Corporation (ISO) submitted for Commission filing and acceptance an amendment (Amendment No. 2) to the Utility Distribution Company Operating Agreement (UDC Operating Agreement) between the ISO and the City of Pasadena, California, as well as the revised UDC Operating Agreement incorporating the terms of Amendment No. 2 to the UDC Operating Agreement. The ISO requests that the filing be made effective as of January 9, 2002. The ISO requests privileged treatment, pursuant to 18 CFR 388.112, with regard to portions of the filing.

The ISO has served copies of this filing upon the City of Pasadena, California, the Public Utilities Commission of the State of California, and all parties in Docket Nos. ER99-3619 and ER01-967.

Comment Date: February 25, 2002.

18. Montana-Dakota Utilities Co., a Division of MDU Resources Group, Inc.

[Docket No. ER02-962-000]

Take notice that on February 4, 2002, Montana-Dakota Utilities Co. a Division of MDU Resources Group, Inc. filed a proposal to cancel parts of its Open Access Transmission Tariff and submitted an executed service agreement with the Midwest ISO for generation related ancillary services. Such cancellation is proposed in order to accommodate the start-up of Midwest Independent Transmission System Operator, Inc. Open Access Transmission Tariff administration.

Comment Date: February 25, 2002.

19. Kansas Gas and Electric Company

[Docket No. ES02-22-000]

Take notice that on January 30, 2002, Kansas Gas and Electric Company submitted an application pursuant to section 204 of the Federal Power Act seeking authorization to (1) issue not more than $1.0 billion in short-term or medium-term securities, and (2) pledge first mortgage bonds in an aggregate principal amount not to exceed $1.0 billion to secure such short-term and medium-term indebtedness.

Comment Date: February 28, 2002.

20. Western Resources, Inc.

[Docket No. ES02-23-000]

Take notice that on January 30, 2002, Western Resources, Inc. (Western) submitted an application pursuant to section 204 of the Federal Power Act seeking authorization to (1) issue not more than $1.5 billion in short-term or medium-term securities, and (2) pledge first mortgage bonds in an aggregate principal amount not to exceed $1.5 billion to secure such short-term and medium-term indebtedness.

Western also requests a waiver of the Commission's competitive bidding and negotiated placement requirements at 18 CFR 34.2.

Comment Date: February 28, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3639 Filed 2-13-02; 8:45 am]

BILLING CODE 6717-01-P